Title 3—

The President

Proclamation 10873 of December 16, 2024

Establishment of the Frances Perkins National Monument

By the President of the United States of America

A Proclamation

Few Americans have had deeper influence in shaping labor and social policy in the United States than Frances Perkins. Perkins became the first woman to serve as a Cabinet Secretary when President Franklin Delano Roosevelt appointed her as the Secretary of Labor in 1933. During the subsequent 12 years, Secretary Perkins played a pivotal role in constructing the New Deal and helping to guide the country out of the Great Depression by designing and leading the implementation of sweeping labor and economic reforms that have made life better for generations of Americans. The longest serving Secretary of Labor in United States history, Secretary Perkins was the architect of many programs and standards—including a minimum wage, overtime pay, unemployment insurance, and prohibitions on child labor—that have endured as the backbone of Federal support for workers and families and continue to benefit millions of Americans today. Secretary Perkins chaired President Roosevelt's effort to investigate the benefits of social insurance and then worked to achieve passage of the Social Security Act, which became one of the most successful programs in the United States to prevent poverty among older adults. When the United States and other nations initially failed to face the horrors of the Holocaust, Secretary Perkins demonstrated leadership on behalf of immigrants and refugees by actively working to bring Jewish children and adults from Europe to the United States to ensure their safety.

The Perkins Homestead in Newcastle, Maine, played a pivotal role in Frances Perkins' life and supported her work to deliver lasting protection and benefits to American workers and families. The rural setting of the Perkins Homestead on the Damariscotta River was the place she felt most at home. She spent her childhood summers there and returned frequently for respite throughout her career. Continuously owned by her family for over 260 years, the Perkins Homestead remains much as it was during Secretary Perkins' lifetime, including the buildings, structures, gardens, and paths where she spent substantial time throughout her life. The core area contains historic structures including a brick house, an attached barn, a gravel driveway, a garden, and portions of a stone wall. The surrounding landscape of the Perkins Homestead contains additional portions of the stone wall, an ice pond, walking trails, a family cemetery, foundations of the 18th and 19th century Perkins Homestead buildings, and remnants of a pre-Revolutionary era garrison. Visitors to the Perkins Homestead today can wander through these places where Perkins returned time and again during her Government service. They can view the stone wall where she sat listening to the radio on September 1, 1939, when it was reported that the Germans invaded Poland, prompting her to rush back to Washington, DC, to assist the President. Preserving the core area of the Perkins Homestead and its associated historic objects will ensure that current and future generations have the opportunity to learn about Secretary Perkins' foundational contributions to the Nation's social and labor policy through the place that helped shape her as a person and support her throughout her extraordinary career.

Frances Perkins was born in Boston as Fannie Coralie Perkins in 1880. At the age of 25, she changed her name to Frances Perkins, which she used for the rest of her life, even after marriage. She graduated in 1902 from Mount Holyoke College in Massachusetts, where she credited a class trip to a nearby mill with inspiring her early interest in improving working conditions for women and children.

After college, Frances Perkins worked with social service organizations in Chicago and Philadelphia, including settlement houses for poor and unemployed people and an organization to support and protect immigrant and Black women and girls from labor and sexual exploitation they faced upon arrival in these cities looking for work. These experiences deepened her resolve to help reduce poverty and support the working poor.

In 1911, while employed at the New York City Consumers' League, Frances Perkins heard the sirens of fire engines racing to put out flames that had engulfed the nearby Triangle Shirtwaist Factory. Running to the site of the fire, she witnessed the horrific scene of workers, mostly young women, jumping to their deaths after being locked in the factory. In total, 146 people died in the fire—including many immigrant workers. Perkins later cited that tragic day as the impetus for policies that would become central to the New Deal.

Perkins' subsequent work at the New York Factory Investigating Commission, where she investigated and advocated for worker health and safety reforms, led to 33 new State laws that improved worker safety, workplace sanitation, and working conditions; provided workers' compensation; and placed limits on child labor. These were some of the first workplace health and safety standards in the Nation, and they became models that other States and the Federal Government adopted.

In 1919, Perkins was named to the New York State Industrial Commission, making her the first woman appointed to serve in a New York State government administration. In 1929, newly elected Governor Franklin Delano Roosevelt asked Perkins to become the State's Industrial Commissioner and oversee the labor department. As the United States careened toward the Great Depression, Perkins used her position to shine a national spotlight on rising unemployment while also helping workers in New York and elsewhere by connecting them to jobs through a State employment service and inviting surrounding States to participate in an unemployment insurance system. Her early warnings regarding the depth of the Nation's economic problems and her work to develop solutions established Perkins as a national leader in the 20th century employment and labor reform movements.

When President Roosevelt formally asked Perkins to join his Cabinet as Secretary of Labor, she responded by saying that if she accepted the position, she intended to execute an ambitious plan of action that included establishing maximum hours and minimum wages, ending child labor, developing unemployment relief through public works, providing unemployment insurance, and creating an old-age pension and a national health insurance program. After detailing her plan, she asked if President Roosevelt was sure he wanted this list of policies put in place, explaining that, “you won't want me for Secretary of Labor if you don't want those things done.” President Roosevelt responded that he would back her; he had promised the American people that he would improve their lives, and he intended to keep his promise.

At a time when few women were in leadership positions and just 13 years after the 19th Amendment granted women the right to vote, Frances Perkins became Secretary of Labor. During an unprecedented 12 years in the position—from 1933 to 1945—Secretary Perkins achieved hard-fought social and economic reforms, often over vocal opposition and personal attacks from critics. She summarized her work in a five-page letter to President Roosevelt, describing the reforms as “a turning point in our national life—a turning from careless neglect of human values and toward an order . . . of mutual and practical benevolence within a free competitive industrial economy.” The list of accomplishments detailed in her letter encompasses many programs and laws that continue to undergird the Nation's economy and social safety net, including establishing Social Security and contributing to the development of the Fair Labor Standards Act and the Walsh-Healey Public Contracts Act. She also helped create millions of jobs across the country through the novel Civilian Conservation Corps and Public Works Administration.

As Secretary of Labor, Perkins often supported the rights of workers to organize unions and to negotiate with employers through collective action, laying the foundation for the rebirth of American labor—including through helping write recovery legislation that provided a right to collective bargaining and laid the groundwork for the National Labor Relations Act of 1935 (also known as the Wagner Act). She used her post not only to advance labor protections in national policy, but also to call personally for workers' fair treatment and access to the halls of power. She persuaded President Roosevelt not to deploy Federal troops to quell the 1934 San Francisco General Strike, and instead encouraged the parties to settle their differences, which was accomplished within a week, and she frequently advised President Roosevelt to help resolve contentious strikes for the benefit of workers.

At the close of her time at the Department of Labor, Perkins had accomplished nearly all of the items in the ambitious plan she laid out for President Roosevelt when he asked her to serve, but she lamented the one exception: health care benefits for American workers. Historians have also noted that, because of deep racial inequities and injustices of the time—including segregation—the benefits of the New Deal were not available to all Americans initially.

When her time as Secretary of Labor concluded, Perkins continued in public service as President Harry Truman's appointee to the United States Civil Service Commission, a post she held from 1945 until 1953. She then became a lecturer at the New York State School of Industrial and Labor Relations at Cornell University, a role she held until her death in 1965.

When Secretary Perkins died, the Secretary of Labor at the time, W. Willard Wirtz, recognized her legacy as central to the New Deal, stating that “every man and woman in America who works at a living wage, under safe conditions, for reasonable hours, or who is protected by unemployment insurance or social security is her debtor.” The final resting place of Secretary Perkins is near her daughter, husband, sister, parents, and grandparents in the Glidden Cemetery, located a half mile north of the Perkins Homestead in Newcastle, Maine.

Throughout Perkins' life and career, the Perkins Homestead served as a place of rejuvenation and reflection, including during her time as Secretary of Labor. Throughout her working life, she continued the family tradition of summer visits to Maine, often living there with her daughter from August into September. Perkins and her sister became joint owners of the property in 1927 and it stayed within the family until 2020. Perkins wrote about how the woods surrounding the brick house and the shoreline at the Perkins Homestead's edge restored and comforted her, and how the brick house provided a place for her to relax and to recover from her work as Secretary of Labor.

The Perkins Homestead, originally over 200 acres, was settled by Perkins' great-great grandfather in the early 1700s. A mid-18th century garrison existed on the property that was in use for 3 years during the French and Indian War.

The core area, on the west end of the Perkins Homestead, has a brick house built by the Perkins family in 1837 along with a connected barn. The two-story home is constructed of bricks manufactured on site at the family brickyard. The east end of the Perkins Homestead borders the Damariscotta River and has a family cemetery, foundations of the 18th and 19th century Perkins Homestead buildings, the remains of the brick kilns, wharves, and a clay pit from the 19th century brickyard, as well as the remains of the garrison. Agricultural fields, pastures, woodland, and planted trees connect the two sides of the Perkins Homestead.

The National Park Service first documented the Perkins Homestead through the Historic American Buildings Survey in 1960, while Secretary Perkins still occupied the home. In 2009, the National Park Service listed the Brick House Historic District on the National Register of Historic Places; the Brick House Historic District included the brick house, adjacent structures, and the wooded and agricultural lands extending to the shoreline of the Damariscotta River. In 2014, the Secretary of the Interior designated this same 57 acres as the Perkins Homestead National Historic Landmark, recognizing the property's historic importance and nationally significant association with Frances Perkins.

The Perkins Homestead contains several objects that reflect Secretary Perkins' lifelong commitment to supporting and protecting American workers. Hanging above a doorway in the brick house is a custom “No Smoking” sign that reflects the lasting influence the Triangle Shirtwaist Factory Fire had on Perkins. It reads: “Please Do Not SMOKE In Any Part of This Building. DANGEROUS. F. Perkins.” The brick house also includes Secretary Perkins' Award for Distinguished Service, which the Department of Labor presented to her on March 4, 1963, on the occasion of the Department's 50th anniversary. The Award citation reads: “For her courage in entering an arena previously considered a masculine domain; for her strength in guiding the Department through a dozen years of domestic stress and international travail; for her spirit in waging the good fight for good objectives; and finally, for herself.”

Conserving the Perkins Homestead will ensure that the family home and surrounding landscape that were a constant source of support for Secretary Perkins will remain protected and accessible in perpetuity for the benefit of all people to learn about her life, her unparalleled contributions to labor and social policy that would eventually benefit generations of Americans, and core principles at the heart of the New Deal that she championed: economic security and dignity for workers.

WHEREAS, section 320301 of title 54, United States Code (the “Antiquities Act”), authorizes the President, in the President's discretion, to declare by public proclamation historic landmarks, historic and prehistoric structures, and other objects of historic or scientific interest that are situated on land owned or controlled by the Federal Government to be national monuments, and to reserve as a part thereof parcels of land, the limits of which shall be confined to the smallest area compatible with the proper care and management of the objects to be protected; and

WHEREAS, the Perkins Homestead was designated a National Historic Landmark on August 25, 2014, establishing its national significance as the ancestral home and lifelong summer residence of Frances Perkins, the first woman to serve as a Cabinet Secretary and one of our Nation's most influential and effective public servants whose legacy includes the historic New Deal; and

WHEREAS, the Frances Perkins Center has been managing and preserving the approximately 57-acre Perkins Homestead, including the objects identified above and additional archives and collections illustrating the historic value of this site, and has expressed support for inclusion of the Perkins Homestead in the National Park System; and

WHEREAS, the Frances Perkins Center has donated to the Federal Government for the purpose of establishing a unit of the National Park System fee interest in the core area comprising approximately 2.3 acres of land in Newcastle, Maine, which includes several historic objects associated with the Perkins Homestead and Perkins' life located on this site, including the brick house, the connected barn, and portions of the stone wall; and

WHEREAS, in support of the establishment of a national monument to be administered by the National Park Service, the Frances Perkins Center has also indicated its intent to develop a partnership with the National Park Service to help manage, oversee, interpret, maintain, and protect the Perkins Homestead (including the core area) and the historic objects it contains as appropriate; and

WHEREAS, the Frances Perkins Center has indicated an interest in donating a majority of the remaining approximately 54.7 acres of the 57-acre Perkins Homestead to the Federal Government in the future; and

WHEREAS, the designation of a national monument to be administered by the National Park Service would recognize the historic significance of Frances Perkins and her role in the New Deal, particularly her contributions to social welfare, safe working conditions, and protection of workers' health and well-being, and would provide a national platform for preserving and interpreting this important history; and

WHEREAS, I find that all the objects identified above, and objects of the type identified above within the area described herein, are objects of historic interest in need of protection under section 320301 of title 54, United States Code, regardless of whether they are expressly identified as objects of historic interest in the text of this proclamation; and

WHEREAS, I find that the boundaries of the monument reserved by this proclamation represent the smallest area compatible with the proper care and management of the objects of historic interest identified above, as required by the Antiquities Act; and

WHEREAS, it is in the public interest to preserve and protect the objects of historic interest associated with the Perkins Homestead in Maine;

NOW, THEREFORE, I, JOSEPH R. BIDEN JR., President of the United States of America, by the authority vested in me by section 320301 of title 54, United States Code, hereby proclaim the objects identified above that are situated on lands and interests in lands owned or controlled by the Federal Government to be part of the Frances Perkins National Monument (monument) and, for the purpose of protecting those objects, reserve as part thereof all lands and interests in lands owned or controlled by the Government of the United States within the boundaries described on the accompanying map, which is attached to and forms a part of this proclamation. The monument's boundaries are coextensive with the Perkins Homestead National Historic Landmark boundaries, and the reserved Federal lands and interests in lands within the monument's boundaries comprise approximately 2.3 acres.

All Federal lands and interests in lands within the boundaries of the monument are hereby appropriated and withdrawn from all forms of entry, location, selection, sale, leasing, or other disposition under the public land laws, including withdrawal from location, entry, and patent under the mining laws, and from disposition under all laws relating to mineral and geothermal leasing.

The establishment of the monument is subject to valid existing rights. Specifically, the Frances Perkins Center retains reserved rights to occupy and use the premises; complete preservation, maintenance, and renovation work; and store and maintain artifacts currently located in the brick house. These reserved rights shall expire not later than 25 years after the date of this proclamation.

If the Federal Government acquires any lands or interests in lands not owned or controlled by the Federal Government within the boundaries described on the accompanying map, such lands and interests in lands shall be reserved as part of the monument, and objects of the type identified above that are situated upon those lands and interests in lands shall be part of the monument, upon acquisition of ownership or control by the Federal Government.

The Secretary of the Interior shall manage the monument through the National Park Service, pursuant to applicable legal authorities and consistent with the purposes and provisions of this proclamation. For the purpose of preserving, interpreting, and enhancing the public understanding and appreciation of the monument, the Secretary of the Interior, through the National Park Service, shall prepare a management plan for the monument. The management plan shall ensure that the monument fulfills the following purposes for the benefit of present and future generations: (1) to preserve the historic objects and other resources within the boundaries of the monument, and (2) to interpret in its entirety the story of Frances Perkins and the history of the New Deal, including the impact Perkins had as the first woman Cabinet Secretary; the complexities of Perkins as an individual and of her ideas, perspectives, and views; and her role in advancing hallmark labor, economic, and social reform within the historical and political context of the early-to-mid 20th century.

The National Park Service shall consult with appropriate Federal, State, and local agencies; local communities; nongovernmental organizations; and the general public in the region of the monument—including the Frances Perkins Center and the Damariscotta River Association—in developing the management plan for the monument, which shall include resource management, interpretation and education, visitor access, and services at the monument. The National Park Service shall also consult on all aspects of the management plan with the Penobscot Nation and other Wabanaki Peoples, whose ancestral lands include areas in Maine near the monument.

The National Park Service is directed, as appropriate, to use applicable authorities to seek to enter into agreements with other entities, including the Frances Perkins Center, to address common interests and promote management efficiencies, including the provision of visitor services, interpretation and education, establishment and care of museum collections, and preservation of historic objects.

Nothing in this proclamation shall be deemed to revoke any existing withdrawal, reservation, or appropriation; however, the monument shall be the dominant reservation.

Warning is hereby given to all unauthorized persons not to appropriate, injure, destroy, or remove any feature of the monument and not to locate or settle upon any of the lands thereof.

If any provision of this proclamation, including its application to a particular parcel of land, is held to be invalid, the remainder of this proclamation and its application to other parcels of land shall not be affected thereby.

IN WITNESS WHEREOF, I have hereunto set my hand this sixteenth day of December, in the year of our Lord two thousand twenty-four, and of the Independence of the United States of America the two hundred and forty-ninth.

Billing code 3395-F4-P

[FR Doc. 2024-30485

Filed 12-18-24; 8:45 am]

Billing code 4310-10-C